ENVIRONMENTAL PROTECTION AGENCY

[FRL-9991-52-OMS]

Good Neighbor Environmental Board

AGENCY: Environmental Protection Agency (EPA).

ACTION: Notice of Federal Advisory Committee Teleconference Meeting.

SUMMARY: Pursuant to the Federal Advisory Committee Act, Public Law 92-463, notice is hereby given that the Good Neighbor Environmental Board will hold a public teleconference meeting on Friday, April 19, 2019. The meeting is open to the public.

DATES: The Good Neighbor Environmental Board will hold an open teleconference meeting on Friday, April 19, 2019 from 12-4 p.m. EDT.

Purpose of Meeting: The purpose of this meeting is to discuss the Board's next report, which is examining regulatory and permitting processes to promote development of new energy infrastructure in the U.S.-Mexico border region.

General Information: The agenda for the teleconference will be available at http://www2.epa.gov/faca/gneb. General information about the Board can be found on its website at http://www2.epa.gov/faca/gneb. If you wish to make oral comments or submit written comments to the Board, please contact Ann-Marie Gantner at least five days prior to the meeting. Written comments should be submitted to Ann-Marie Gantner at gantner.ann-marie@epa.gov.

Meeting Access: For information on access or services for individuals with disabilities, please contact Ann-Marie Gantner at (202) 564-4330 or email at gantner.ann-marie@epa.gov.

To request accommodation of a disability, please contact Ann-Marie Gantner at least 10 days prior to the meeting to give EPA as much time as possible to process your request.

Dated: April 1, 2019.
Ann-Marie Gantner,
Program Analyst.

[FR Doc. 2019-06733 Filed 4-4-19; 8:45 am]

BILLING CODE 6560-50-P